DEPARTMENT OF COMMERCE

Submission for OMB Review; Comment Request

DOC has submitted to the Office of Management and Budget (OMB) for clearance the following proposal for collection of information under the provisions of the Paperwork Reduction Act (44 U.S.C. chapter 35).

Agency:

U.S. Census Bureau.

Title: 2007 Census of Governments Local Government Directory Survey.

Form Number(s): G-30.

Agency Approval Number: None.

Type of Request: New collection.

Burden: 9,000 hours.

Number of Respondents: 36,000.

Avg. Hours Per Response: 15 minutes.

Needs and Uses: The U.S. Census Bureau requests Office of Management and Budget approval of the Local Government Directory Survey form G-30. This form will be used to update the universal list of public sector entities for the 2007 Census of Governments. Each of the 36,000 special district governments designated for the census will be sent an appropriate form.

Respondents will be asked to verify or correct the name and mailing address of the government, answer the questions on the form, and return the form. The 2007 Census of Governments Local Government Directory Survey consists of two basic content areas: government organization and government employment. For government organization we will ask for authorizing legislation, composition of governing body, services provided, Web address, and corrections to the name and address of the government. For government employment we will ask for full-time employees, part-time employees, and annual payroll.

A census of governments is taken at 5-year intervals as required by law under Title 13, United States Code. This form will be used for the following purposes: (1) To produce the official count of state and local government units in the United States; (2) to obtain descriptive information on the basic characteristics of governments; (3) to identify and delete inactive units; (4) to identify file duplicates and units that were dependent on other governments; and (5) to update and verify the mailing addresses of governments.

Affected Public: State, local, or Tribal governments.

Frequency: Every 5 years.

Respondent's Obligation: Voluntary.

Legal Authority: Title 13 U.S.C., section 161.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: June 1, 2006.
Madeleine Clayton,
Management Analyst, Office of the Chief Information Officer.

[FR Doc. E6-8780 Filed 6-6-06; 8:45 am]

BILLING CODE 3510-07-P